SECURITIES AND EXCHANGE COMMISSION

[SEC File No. 270-446, OMB Control No. 3235-0503]

Submission for OMB Review; Comment Request; Extension: Form N-6

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (the “Commission”) has submitted to the Office of Management and Budget a request for extension of the previously approved collection of information discussed below.

The title for the collection of information is “Form N-6 (17 CFR 239.17c and 274.11d) under the Securities Act of 1933 (15 U.S.C. 77a et seq.) and under the Investment Company Act of 1940 (15 U.S.C. 80a-1 et seq.) registration statement of separate accounts organized as unit investment trusts that offer variable life insurance policies.” Form N-6 is the form used by insurance company separate accounts organized as unit investment trusts that offer variable life insurance contracts to register as investment companies under the Investment Company Act of 1940 and/or to register their securities under the Securities Act of 1933. The primary purpose of the registration process is to provide disclosure of financial and other information to investors and potential investors for the purpose of evaluating an investment in a security. Form N-6 also requires separate accounts organized as unit investment trusts that offer variable life insurance policies to provide investors with a prospectus and a statement of additional information (“SAI”) covering essential information about the separate account when it makes an initial or additional offering of its securities.

The Commission estimates that approximately 448 registration statements (20 initial registration statements plus 428 post-effective amendments) are filed on Form N-6 annually. The estimated hour burden per portfolio for preparing and filing an initial registration statement on Form N-6 is 772.25 hours. The estimated annual hour burden for preparing and filing initial registration statements is 15,445 hours (20 initial registration statements annually times 772.25 hours per registration statement). The Commission estimates that the hour burden for preparing and filing a post-effective amendment on Form N-6 is 154.25 hours. The total annual hour burden for preparing and filing post-effective amendments is 66,019 hours (428 post-effective amendments annually times 154.25 hours per amendment). The frequency of response is annual. The total annual hour burden for Form N-6, therefore, is estimated to be 81,464 hours (15,445 hours for initial registration statements plus 66,019 hours for post-effective amendments).

The Commission estimates that the cost burden for preparing an initial Form N-6 filing is $40,000 per filing and the current cost burden for preparing a post-effective amendment to a previously effective registration statement is $20,000 per filing. Thus, the total cost burden allocated to Form N-6 would be $9,360,000 (20 initial filings times $40,000 and 428 post-effective amendment filings times $20,000).

The information collection requirements imposed by Form N-6 are mandatory. Responses to the collection of information will not be kept confidential. Estimates of average burden hours are made solely for the purposes of the Paperwork Reduction Act, and are not derived from a comprehensive or even a representative survey or study of the costs of Commission rules and forms. An agency may not conduct or sponsor, and a person is not required to respond to a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice by August 15, 2024 to (i) MBX.OMB.OIRA.SEC_desk_officer@omb.eop.gov and (ii) Austin Gerig, Director/Chief Data Officer, Securities and Exchange Commission, c/o Oluwaseun Ajayi, 100 F Street NE, Washington, DC 20549, or by sending an email to: PRA_Mailbox@sec.gov.

Dated: July 10, 2024.
Vanessa A. Countryman,
Secretary.

[FR Doc. 2024-15486 Filed 7-15-24; 8:45 am]

BILLING CODE 8011-01-P